INTERNATIONAL TRADE COMMISSION

[Investigation No. 337-TA-1386]

Certain Self-Balancing Electric Skateboards and Components Thereof; Notice of Issuance of a Limited Exclusion Order Against the Respondent Found in Default; Termination of Investigation

AGENCY: U.S. International Trade Commission.

ACTION: Notice.

SUMMARY: Notice is hereby given that the U.S. International Trade Commission has issued a limited exclusion order (“LEO”) against certain self-balancing electric skateboards and components thereof of respondent Floatwheel of Guilin City, GuangXi Province, China (“Floatwheel,” or Respondent). The investigation is terminated.

FOR FURTHER INFORMATION CONTACT: Michael Liberman, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 16, 2024, the Commission instituted this investigation based on a complaint filed by Future Motion, Inc. of Santa Cruz, California (“Future Motion,” or “Complainant”). 89 FR 2644-45 (Jan. 16, 2024). The complaint alleged violations of section 337 of the Tariff Act of 1930, as amended, 19 U.S.C. 1337, based upon the importation into the United States, the sale for importation, or sale within the United States after importation of certain self-balancing electric skateboards and components thereof by reason of infringement of one or more of claims 1, 2, 4-6, 8-10, 13-15, and 17-19 of U.S. Patent No. 9,400,505 (“the '505 patent”). Id. at 2644. The Commission's notice of investigation named as respondents Floatwheel; Changzhou Smilo Motors Co., Ltd. of Changzhou, Jiangsu Province, China (”Smilo”); Changzhou Gaea Technology Co., Ltd. of Changzhou, Jiangsu, China (“Gaea”); and Shanghai Loyal Industry Co., Ltd., d/b/a “SoverSky” of Shanghai, China (“SoverSky”). Id. at 2645. The Office of Unfair Import Investigations was also named as a party in this investigation. Id.

On March 12, 2024, Complainant moved to withdraw its complaint and terminate this investigation with respect to respondents Smilo, Gaea, and SoverSky. Motion Docket No. 1386-06 (EDIS Doc. ID 815981). On March 13, 2024, the ALJ granted the unopposed motion. Order No. 13 (Mar. 13, 2024); unreviewed by Notice (April 12, 2024).

The complaint and notice of investigation were served on Floatwheel on January 17, 2024. See Order No. 8 at 5 (Feb. 6, 2024). Floatwheel failed to respond to the complaint and notice of investigation.

On February 23, 2024, the presiding ALJ issued Order No. 10, ordering, inter alia, Floatwheel to show cause why it should not be found in default and why judgment should not be rendered against it for failing to respond to the complaint and notice of investigation. No response was filed to the show cause order.

On March 13, 2024, the ALJ issued an ID (Order No. 15) finding Floatwheel in default under Commission Rule 210.16 (19 CFR 210.16). On April 12, 2024, the Commission determined not to review and issued a Federal Register Notice to that effect. 89 FR 27450-27451 (Apr. 17, 2024). The Commission also requested briefing from the parties and the public on the issues of remedy, the public interest, and bonding. Id. at 42938.

The Commission has determined that the appropriate form of relief in this investigation is an LEO prohibiting the unlicensed entry of self-balancing electric skateboards and components thereof by reason of the infringement of one or more of claims 1, 2, 4-6, 8-10, 13-15, and 17-19 of the '505 patent and that are manufactured abroad by or on behalf of, or imported by or on behalf of, Respondent. The Commission has further determined that the public interest factors enumerated in section 337(g)(l) (19 U.S.C. 1337(g)(l)) do not preclude issuance of the LEO. The Commission has determined that the bond for importation during the period of Presidential review shall be in the amount of one hundred percent (100%) of the entered value of the imported subject articles of Respondent.¹ The Commission's order was delivered to the President and the United States Trade Representative on the day of the issuance.

¹ Commissioner Schmidtlein finds that section 337 does not authorize respondents subject to remedial relief under subsection 337(g)(1) to import infringing products under bond during the Presidential review period for the reasons explained in Certain Centrifuge Utility Platform and Falling Film Evaporator Systems and Components Thereof, Inv. No. 337-TA-1311, Comm'n Notice at 5, n.5 (March 23, 2023). She therefore would not permit Floatwheel to import infringing products under bond during the Presidential review period.

The authority for the Commission's determination is contained in section 337 of the Tariff Act of 1930, as amended (19 U.S.C. 1337), and in part 210 of the Commission's Rules of Practice and Procedure (19 CFR part 210).

The Commission vote for this determination took place on June 20, 2024.

By order of the Commission.
Issued: June 24, 2024.
Lisa Barton,
Secretary to the Commission.

[FR Doc. 2024-14155 Filed 6-26-24; 8:45 am]

BILLING CODE 7020-02-P